SECURITIES AND EXCHANGE COMMISSION

[Form BD-N/Rule 15b11-1; SEC File No. 270-498; OMB Control No. 3235-0556]

Submission for OMB Review; Comment Request

Upon Written Request, Copies Available From: U.S. Securities and Exchange Commission, Office of Investor Education and Advocacy, Washington, DC 20549-0213.

Extension:

Form BD-N/Rule 15b11-1; SEC File No. 270-498; OMB Control No. 3235-0556.

Notice is hereby given that, pursuant to the Paperwork Reduction Act of 1995 (44 U.S.C. 3501 et seq.), the Securities and Exchange Commission (“Commission”) has submitted to the Office of Management and Budget a request for extension of the previously approved collection of information discussed below.

Rule 15b11-1 (17 CFR 240.15b11-1) requires that futures commission merchants and introducing brokers registered with the Commodity Futures Trading Commission that conduct a business in security futures products must notice-register as broker-dealers pursuant to Section 15(b)(11)(A) of the Securities Exchange Act of 1934 (15 U.S.C. 78a et seq.). Form BD-N (17 CFR 249.501b) is the Form by which these entities must notice register with the Commission.

The total annual burden imposed by Rule 15b11-1 and Form BD-N is approximately 8 hours, based on approximately 21 responses (10 initial filings + 11 amendments). Each initial filing requires approximately 30 minutes to complete and each amendment requires approximately 15 minutes to complete. There is no annual cost burden.

The Commission will use the information collected pursuant to Rule 15b11-1 to understand the market for securities futures product and fulfill its regulatory obligations.

Completing and filing Form BD-N is mandatory in order for an eligible futures commission merchant or introducing broker to conduct a business in security futures products. Compliance with Rule 15b11-1 does not involve the collection of confidential information. Please note that an agency may not conduct or sponsor, and a person is not required to respond to, a collection of information unless it displays a currently valid control number. The Federal Register notice with a 60-day comment period soliciting comments on this collection of information was published on October 12, 2010 (75 FR 62612). No comments were received.

The public may view the background documentation for this information collection at the following Web site, http://www.reginfo.gov. Comments should be directed to: (i) Desk Officer for the Securities and Exchange Commission, Office of Information and Regulatory Affairs, Office of Management and Budget, Room 10102, New Executive Office Building, Washington, DC 20503, or by sending an e-mail to: Shagufta_Ahmed@omb.eop.gov; and (ii) Thomas Bayer, Chief Information Officer, Securities and Exchange Commission, c/o Remi Pavlik-Simon, 6432 General Green Way, Alexandria, VA 22312 or send an e-mail to: PRA_Mailbox@sec.gov. Comments must be submitted to OMB within 30 days of this notice.

Dated: December 12, 2010.
Florence E. Harmon,
Deputy Secretary.

[FR Doc. 2010-31819 Filed 12-17-10; 8:45 am]

BILLING CODE 8011-01-P